NATIONAL FOUNDATION ON THE ARTS AND THE HUMANITIES

Arts Advisory Panel Meeting

AGENCY: National Endowment for the Arts, National Foundation on the Arts and Humanities.

ACTION: Notice—additional information.

Pursuant to Section 10(a)(2) of the Federal Advisory Committee Act (Pub. L. 92-463), as amended, this notice is providing additional information regarding the previously announced open session of the Media Arts panel, scheduled for January 26, 2012 from 3 p.m. to 4:30 p.m. This open session will be webcast.

Instructions for Joining the Webinar

You do not need to register in order to attend the webinar. Simply go to the URL below. You do not need special software; make sure, however, that you have the latest version of Flash. Go to http://artsgov.adobeconnect.com/arts-in-media/ and click “Enter as Guest.” Type in your full name, then click “Enter Room.” You can listen using your computer speakers or dial-in toll-free to 1-(877) 685-5350, participant code: 942738. You will be muted, but able to ask questions by typing into a Q&A box.

Further information with reference to these meetings can be obtained from Ms. Kathy Plowitz-Worden, Office of Guidelines & Panel Operations, National Endowment for the Arts, Washington, DC 20506, or call (202) 682-5691.

Dated: January 13, 2012.
Kathy Plowitz-Worden,
Panel Coordinator, Panel Operations, National Endowment for the Arts.

[FR Doc. 2012-965 Filed 1-18-12; 8:45 am]

BILLING CODE 7537-01-P